NUCLEAR REGULATORY COMMISSION

[NRC-2020-0170]

Information Collection: Reactor Site Criteria

AGENCY: Nuclear Regulatory Commission.

ACTION: Notice of submission to the Office of Management and Budget; request for comment.

SUMMARY: The U.S. Nuclear Regulatory Commission (NRC) recently submitted a request for renewal of an existing collection of information to the Office of Management and Budget (OMB) for review. The information collection is entitled, “Reactor Site Criteria.”

DATES: Submit comments by May 20, 2021. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2020-0170 when contacting the NRC about the availability of information for this action. You may obtain publicly available information related to this action by any of the following methods:

• Federal Rulemaking Website: Go to https://www.regulations.gov/ and search for Docket ID NRC-2020-0170. A copy of the collection of information and related instructions may be obtained without charge by accessing Docket ID NRC-2020-0170 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement is available in ADAMS under Accession Nos. ML21041A452.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@nrc.gov.

B. Submitting Comments

The NRC cautions you not to include identifying or contact information in comment submissions that you do not want to be publicly disclosed in your comment submission. All comment submissions are posted at https://www.regulations.gov/ and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Reactor Site Criteria.” The NRC hereby informs potential respondents that an agency may not conduct or sponsor, and that a person is not required to respond to, a collection of information unless it displays a currently valid OMB control number.

The NRC published a Federal Register notice with a 60-day comment period on this information collection on December 10, 2020, (85 FR 79532).

1. The title of the information collection: “Reactor Site Criteria”.

2. OMB approval number: 3150-0093.

3. Type of submission: Extension.

4. The form number, if applicable:N/A.

5. How often the collection is required or requested: As necessary in order for the NRC to assess the adequacy of proposed seismic design bases and the design bases for other site hazards for nuclear power and test reactors constructed and licensed in accordance with Parts 50 and 52 of title 10 of the Code of Federal Regulations (10 CFR) and the Atomic Energy Act of 1954, as amended.

6. Who will be required or asked to respond: Applicants who apply for an early site permit (ESP), combined license (COL) or a construction permit (CP) or operating license (OL) on or after January 10, 1997.

7. The estimated number of annual responses: 0.66.

8. The estimated number of annual respondents: 0.66.

9. The estimated number of hours needed annually to comply with the information collection requirement or request: 48,180 hours (73,000 hours per application × 0.66 applications).

10. Abstract: 10 CFR part 100, “Reactor Site Criteria,” establishes approval requirements for proposed sites for the purpose of constructing and operating stationary power and testing reactors. Subpart B, “Evaluation Factors for Stationary Power Reactor Site Applications on or After January 10, 1997,” requirements apply to applicants who apply for an ESP, COL or a CP or OL on or after January 10, 1997. This clearance is necessary since the NRC is expecting approximately two COL applications over the next 3 years. The applicants must provide information regarding the physical characteristics of the site in addition to the potential for natural phenomena and man-made hazards. This includes information on meteorological hazards (such as hurricanes, tornadoes, snowfall, and extreme temperatures), hydrologic hazards (such as floods, tsunami, and seiches) geologic hazards (such as faulting, seismic hazards, and the maximum credible earthquake) and factors such as population density, the proximity of man-related hazards (e.g., airports, dams, transportation routes, military and chemical facilities), and site hydrological and atmospheric dispersion characteristics. The NRC staff reviews the submitted information and, if necessary, generates a request for additional information. The staff meets with the applicant and conducts a site visit to resolve any open issues. When the open issues have been resolved, the staff writes the final safety evaluation report, which is published and used as a basis for the remainder of the NRC licensing process.

Dated: April 15, 2021.
For the Nuclear Regulatory Commission.
David C. Cullison,
NRC Clearance Officer, Office of the Chief Information Officer.

[FR Doc. 2021-08097 Filed 4-19-21; 8:45 am]

BILLING CODE 7590-01-P